DEPARTMENT OF ENERGY

Federal Energy Regulatory Commission

Notice of Intent To File Application for a New License

June 10, 2003.

Take notice that the following notice of intent has been filed with the Commission and is available for public inspection:

a. Type of filing: Notice of Intent to File an Application for New License.

b. Project No: 946.

c. Date filed: April 28, 2003.

d. Submitted By: Hyrum City, UT.

e. Name of Project: Hyrum City Hydroelectric Project.

f. Location: The project is located on the Blacksmith Fork River, near the the City of Hyrum, Cache County, Utah, on Cache National Forest lands and private in-holdings.

g. Filed Pursuant to: Section 15 of the Federal Power Act, 18 CFR 16.6.

h. Pursuant to Section 16.19 of the Commission's regulations, the licensee is required to make available the information described in Section 16.7 of the regulations. Such information is available from Guy McBride, Electric Power Superintendent, Hyrum City Offices, 83 West Main, Hyrum, UT 84319, (435) 245-6033.

i. FERC Contact: Gaylord Hoisington, 202-502-6032. Gaylord.Hoisington@ferc.gov.

j. Expiration Date of Current License: April 30, 2008.

k. Project Description: The project includes an earth-filled diversion dam containing a concrete spillway 35 feet wide, a concrete penstock inlet with trash racks, a concrete block powerhouse housing a 400-kilowatt turbine generator, and 100 feet of underground transmission lines.

l. The licensee states its unequivocal intent to submit an application for a new license for Project No. 946. Pursuant to 18 CFR 16.9(b)(1) each application for a new license and any competing license applications must be filed with the Commission at least 24 months prior to the expiration of the existing license. All applications for license for this project must be filed by April 28, 2006.

This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. A copy is also available for inspection and reproduction at the address in item h above.

Magalie R. Salas,
Secretary.

[FR Doc. 03-15174 Filed 6-16-03; 8:45 am]

BILLING CODE 6717-01-P